DEPARTMENT OF TRANSPORTATION

Federal Highway Administration

[FHWA Docket No. FHWA-2008-0070]

Exploratory Advanced Research Program

AGENCY: Federal Highway Administration (FHWA), DOT.

ACTION: Notice; Request for comments.

SUMMARY: Section 502 of title 23 of the United States Code directs the Secretary of Transportation (Secretary) to establish an Exploratory Advanced Research Program (EARP).

The stated purpose of the EARP is to address longer-term and higher-risk research with potentially dramatic breakthroughs for improving the durability, efficiency, environmental impact, productivity and safety aspects of highway and intermodal transportation systems.

The purpose of this notice is to announce exploratory advanced research that will take place under the EARP, to encourage interest in such work by organizations or individuals conducting related work or anticipating the results of such work, and to solicit comments about the long-term impact of such work on future research, technical innovation, or transportation industry practices.

DATES: FHWA requests comments on or before October 6, 2008 in order to consider and plan for coordination of research.

ADDRESSES: David Kuehn, Office of Corporate Research, Technology and Innovation Management, (202) 493-3414, david.kuehn@dot.gov; or Grace Reidy, Office of the Chief Counsel, (202) 366-6226; Federal Highway Administration, 1200 New Jersey Avenue, SE., Washington, DC 20590. Office hours are from 7:45 a.m. to 4:15 p.m., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site. An electronic copy of this notice may be downloaded from the Office of the Federal Register's home page at http://www.archives.gov and the Government Printing Office's Web site at http://www.access.gpo.gov. Anyone is able to search the electronic form of all comments received into any of our dockets by the name of the individual submitting the comment (or signing the comment, if submitted on behalf of an association, business, labor union, etc.). You may review DOT's complete Privacy Act Statement in a Federal Register published on April 11, 2000 (70 FR 19477), or you may visit http://dms.dot.gov.

Background

Section 5201(g) of the Safe, Accountable, Flexible, Efficient Transportation Equity Act: A Legacy for Users (SAFETEA-LU) (Pub. L. 109-59, 119 Stat. 1144), directed the Secretary to establish an EARP. The program is codified in 23 U.S.C. 502(e).

Section 502(e) specifies that the EARP should address longer-term, higher risk research aimed at breakthroughs to improve the durability, efficiency, environmental impact, productivity and safety aspects of highway and intermodal transportation systems. Section 502(e) also provides that the Secretary should seek to develop partnerships with public and private sector entities. Further, the FHWA Corporate Master Plan for Research and Deployment of Technology & Innovation identifies engaging stakeholders throughout the research and technology process as one of seven guiding principles. An electronic copy of the Corporate Master Plan is available at http://www.fhwa.dot.gov/legsregs/directives/policy/cmp/03077.htm.

In 2005, FHWA conducted advanced research think-tank forums in Cambridge, Massachusetts; Minneapolis, Minnesota; and Berkeley, California, bringing together a range of stakeholders to explore future advanced research possibilities relevant to the mission of FHWA. These forums provided a foundation for FHWA to announce and select an initial group of exploratory advanced research projects in 2007.

Also during 2007, research offices within FHWA began meeting with research partners to further define areas of investigation for exploratory advanced research. Once specific research problems were defined, FHWA worked with outside experts from academic institutions, State and local departments of transportation and the private sector to provide technical assessments of exploratory advanced research proposals. FHWA plans to move forward with proposals that have strong scientific and technical merit.

Depending on the research area, some proposals leverage existing facilities, equipment and talent at the Turner Fairbank Highway Research Center (TFHRC). The research focuses on providing solutions to complex technical problems through the development of more economical, environmentally sensitive designs; more efficient, quality-controlled construction practices; and more durable materials. The TFHRC is federally owned and operated and provides FHWA and the world highway community with unique capabilities for the development of highway research, development and technology.

The FHWA is issuing this notice to announce five research proposals that will take place at TFHRC and to encourage organizations that are conducting related work or are interested in the results of such work to comment on this notice. The FHWA seeks methods to share information and to coordinate with other organizations who are conducting related work in the interests of mutual benefit and scientific advancement. Methods may include informal coordination as well as more formal agreements for providing access to facilities and equipment or sharing laboratory data and technical expertise. Further information about the EARP is located at http://www.fhwa.dot.gov/advancedresearch/research.cfm.

Following is a summary of the five proposals FHWA plans to undertake as part of a second round of exploratory advanced research. For more detailed descriptions of the proposals, see http://www.fhwa.dot.gov/advancedresearch/research.cfm#upcoming.

Title: Greatly Increased Use of Fly Ash in Hydraulic Cement Concrete for Pavement Layers and Transportation Structures—This study will explore the attributes of fly ash to understand how it can be utilized in greater quantities. The outcome of the study could accelerate the identification of technology and innovations to allow the massive use of fly ash from coal-burning that either does not meet current concrete materials specifications or is not used because of practical technical concerns. The fly-ash drawback is the slower set and strength gain. Advanced research is needed to understand potential acceleration techniques to conceive of empirical testing and performance prediction models for these uses. We anticipate that research in this area will answer several questions, including whether there are chemical activation methods that can be used and whether we could eliminate use of any metal that corrodes in concrete in favor of more efficient chloride accelerators.

Title: Volumetric Particle Image Velocimetry (VPIV) System for experimental Bridge Scour Research—A proposed high resolution VPIV system would allow measurement of instantaneous flow volumes around bridge pier models, leading to more precise scour predictive models. It presently is practically impossible, by means of laboratory experiments, to visualize and to measure the entire instantaneous flow field around a bridge pier. Recent experimental investigations using Laser Doppler Velocimetry and Particle Image Velocimetry (PIV) have increased our understanding of the intricate flow structures around bridge piers; a detailed quantitative description of the of necklace vortices at the base of piers and of the turbulent near wake region is still lacking. Laser Doppler Anemometry (LDA) is only capable of measuring point velocities, and PIV is limited to single recording plains. LDA and PIV are both based on optical flow diagnostics using the interaction of light refraction and scattering with inhomogeneous media. Research at the TFHRC Hydraulics Laboratory has focused on using a PIV system developed in-house for measuring instantaneous flow fields around bridge pier models. The existing PIV system also has the capability to map the out-of-plane velocity components using two synchronized cameras to measure the velocity in complex flow situations. The current PIV system has two major limitations: (1) Resolution (sampling rate 15 Hz); and (2) only one recording plane. Therefore, there is a need to develop a high resolution VPI system that can capture and quantify complex, highly three-dimensional and unsteady flow fields for small-scale bridge scour experiments.

Title: Flexible Skin Areal Shear Stress and Pressure Sensing System for Experimental Bridge Scour Research—This study will explore ways to directly measure instantaneous boundary shear stresses and pressure fields for small scale bridge scour experiments, in order to advance the understanding of bridge scour problems. A direct method to measure boundary shear stress and boundary pressure fluctuations in experimental scour research has historically been a challenge. In addition, available turbulence models cannot account very well for the effect of bed roughness, which is fundamentally important for any Computational Fluid Dynamics simulation. A mechanical shear sensor device that was developed by the TFHRC Hydraulics Research team to measure directly wall shear stress has several limitations. One major challenge is that the sensor only measures point shear stresses. The sensor plate has to be aligned horizontally with the channel bed and cannot be used to measure shear stress in preformed scour holes. Therefore, there is a need to develop a sensing system that can measure instantaneous areal boundary shear stresses and pressure fields for small scale bridge scour experiments. The FHWA desires a sensing system with the flexibility to measure the change in shear-stress and pressure when the scour hole forms.

Title: The Composite Behavior and the Design Requirements of Geosynthetic Reinforced Soil (GRS) Structures—This research will seek to understand how geosynthetic reinforcement interacts with compacted soil to allow for more effective and rational design guidance of GRS walls for highway applications. Many engineers have learned there are several fundamental discrepancies between current Material Science Engineering design methodology and the observed behavior of full-scale GRS earth-geosynthetic composite walls (alternating close layers of geosynthetic reinforcement and compacted fill). The research will improve the understanding of reinforced soil technology and support a paradigm shift into GRS technology. The Material Science Engineering wall industry and related theory is mature to a point where there is reluctance to acknowledge any modified wall design using geosynthetics. However, the evolution of GRS technology using geosynthetic soil composites has created a new engineering material with a niche in earthwork. Fundamental understanding of GRS properties will allow for development of improved design and construction guidance with the potential to lead to considerable change in the industry and an affordable, quick alternative to the current practice.

Title: Advanced Digital Imaging for Accident Prevention and Reducing Traffic Congestion—This research would explore extended range imaging techniques from scientific, art and astronomical photography for application to traffic safety and control. Current video imaging has limitations for use in safety, including erroneous early detection, late detection, failed detection and false positive detections. Attempts to resolve these problems by upgrading existing video technologies have not been successful. A radically different approach using advanced digital imaging technologies might provide a foundation on which to build solid reliable detection technologies with radically lower signal-to-noise ratios. This research might provide the foundation for a different approach to wide-area sensing using scientific-imaging technologies rather than video-broadcasting technologies.

Authority: 23 U.S.C. 502.

Issued on: July 1, 2008.
James D. Ray,
Acting Federal Highway Administrator.

[FR Doc. E8-15477 Filed 7-7-08; 8:45 am]

BILLING CODE 4910-22-P